ENVIRONMENTAL PROTECTION AGENCY

[FRL-8564-6]

Notice of Proposed Administrative Settlement Pursuant to the Comprehensive Environmental Response, Compensation, and Liability Act, as Amended by the Superfund Amendments and Reauthorization Act

AGENCY: Environmental Protection Agency (EPA).

ACTION: Notice, request for public comments.

SUMMARY: In accordance with Section 122(i) of the Comprehensive Environmental Response, Compensation, and Liability Act, as amended by the Superfund Amendments and Reauthorization Action (“CERCLA”), 42 U.S.C. Section 9622(i), notice is hereby given of an proposed Administrative Order on Consent (“AOC,” Region 9 Docket No. 2008-0005) pursuant to Section 122(h) of CERCLA concerning the Anaconda Copper Mine Superfund Site (the “Site”), located in Yerington, Nevada. The respondent to the AOC is Atlantic Richfield Company, a former owner and operator of the Site. Through the proposed AOC, Atlantic Richfield Company agrees to reimburse $2,770,440 for incurred response costs through May 2007, and to provide a technical assistance program for the community around the Site. The AOC provides Atlantic Richfield Company with a covenant not to sue and contribution protection for matters addressed in the AOC. The Site presently is within the remedial investigation stage, and EPA anticipates resolving its present and future response costs by subsequent agreements. For thirty (30) days following the date of publication of this Notice, the Agency will receive written comments relating to the proposed AOC. The Agency's response to any comments received will be available for public inspection at EPA's Region IX offices, located at 75 Hawthorne Street, San Francisco, California 94105.

DATES: Comments must be submitted on or before June 11, 2008.

ADDRESSES: The proposed AOC may be obtained from Danielle Carr, Hearing Clerk, telephone (415) 972-3871. Comments regarding the proposed AOC should be addressed to Danielle Carr (ORC-3) at 75 Hawthorne Street, San Francisco, California 94105, and should reference the PRC Patterson Superfund Removal Site, and Region IX Docket No. 2008-0005.

FOR FURTHER INFORMATION CONTACT: J. Andrew Helmlinger, Office of Regional Counsel, (415) 972-3904, U.S. Environmental Protection Agency, Region 9, 75 Hawthorne Street, San Francisco, CA 94105.

Dated: April 28, 2008.
Keith A. Takata,
Director, Superfund Division.

[FR Doc. E8-10509 Filed 5-9-08; 8:45 am]

BILLING CODE 6560-50-P